DEPARTMENT OF HEALTH AND HUMAN SERVICES

Health Resources and Services Administration

Agency Information Collection Activities: Proposed Collection: Public Comment Request Information Collection Request Title: Initial and Reconciliation Application Forms to Report Graduate Medical Education Data and Full-Time Equivalent (FTE) Residents Trained by Hospitals Participating in the Children's Hospitals Graduate Medical Education Payment Program; and FTE Resident Assessment Forms to Report FTE Residents Trained by Organizations Participating in the Children's Hospitals and Teaching Health Center Graduate Medical Education Programs, OMB No. 0915-0247—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 7, 2022.

ADDRESSES: Submit your comments to paperwork@hrsa.gov or mail them to HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the ICR title for reference.

Information Collection Request Title: Initial and Reconciliation Application Forms to Report Graduate Medical Education Data and FTE Residents Trained by Children's Hospitals Participating in the Children's Hospitals Graduate Medical Education (CHGME) Payment Program; and FTE Resident Assessment Forms to Report FTE Residents Trained by Organizations Participating in the Children's Hospitals and Teaching Health Center Graduate Medical Education (THCGME) Programs, OMB No. 0915-0247—Revision

Abstract: The Healthcare Research and Quality Act of 1999 (Pub. L. 106-129) established the CHGME Payment Program, Section 340E of the Public Health Service Act, most recently amended by the Dr. Benjy Frances Brooks Children's Hospital Graduate Medical Education (GME) Support Reauthorization Act of 2018 (Pub. L. 115-241). In 2010, the Patient Protection and Affordable Care Act (Pub. L. 111-148) established the THCGME Program, Section 340H of the Public Health Service Act, most recently amended by the Consolidated Appropriations Act, 2021 (Pub. L. 116-260). The American Rescue Plan Act of 2021 (Pub. L. 117-2) provided additional funding for the THCGME Program.

The CHGME Payment Program and the THCGME Program provide federal funding to support GME programs that train medical and dental residents. Specifically, the CHGME Payment Program supports residency programs at freestanding children's hospitals that train residents in pediatric, pediatric subspecialty, and non-pediatric care. The THCGME Program supports training for primary care residents (including residents in family medicine, internal medicine, pediatrics, internal medicine-pediatrics, obstetrics and gynecology, psychiatry, general dentistry, pediatric dentistry, and geriatrics) in community-based ambulatory patient care settings.

Children's hospitals and teaching health centers funded by HRSA's CHGME and THCGME programs, respectively, are required to report the number of FTE residents trained during the federal fiscal year. Fiscal intermediaries are contracted by HRSA to carry out an assessment of FTE resident counts reflected in participating children's hospitals and teaching health centers applications to determine any changes to the resident FTE counts initially reported. Fiscal intermediaries audit the data reported by the children's hospitals and the teaching health centers and report the verified FTE resident counts to HRSA. An assessment of the children's hospital and teaching health center data ensures that applicable Medicare regulations and HRSA program requirements are followed when determining the number of full-time equivalent residents eligible for funding.

HRSA plans to submit an Information Collection Request for several reasons. First, the current OMB clearance for the CHGME Payment Program application and FTE resident assessment forms and exhibits expires 01/31/2023. Second, in addition to using the FTE resident assessment forms and exhibits for the CHGME Payment Program audits, HRSA plans to use CHGME FTE resident assessment forms and exhibits for THCGME Program audits. HRSA combined the FTE resident assessments of participating children's hospitals and teaching health centers into one audit contract to reduce costs to the federal government and to facilitate the fiscal intermediary's review of those residents training in both children's hospitals and teaching health centers funded by HRSA. As part of the FTE resident assessment process, the fiscal intermediary must ensure resolution of overlaps identified in the FTE residents reported between CHGME children's hospitals and the THCGME teaching health centers. The overlap reports indicate when an FTE resident is claimed for CHGME payment during the same period of training time claimed for reimbursement from any other source of federal GME funding, to include the THCGME Program. The use of the same FTE resident assessment forms and exhibits during the audit of both the children's hospitals and teaching health centers is more efficient for fiscal intermediaries to complete that perform both CHGME and THCGME audits, and for HRSA to review. Lastly, HRSA is proposing changes to the current CHGME Payment Program application and the FTE assessment forms and exhibits to be used for the CHGME Payment Program and THCGME Program. The changes are only proposed to the HRSA 99-1 form (also known as Exhibit O(2)), the HRSA 99-5 form, and the FTE resident assessment exhibits. All other CHGME Payment Program application and FTE resident assessment forms are the same as currently approved. The changes described require OMB approval and are as follows:

1. CHGME Payment Program Application Instructions and Guidance: Update initial and reconciliation application instructions and guidance. Some of the examples provided in the instructions and guidance reference the FY 2010 application cycle and related dates. HRSA will update these dates to FY 2020 or more information that is relevant to applicants.

2. CHGME Payment Program Application HRSA 99-1 form: Revise Lines 4.05a, 5.05a, and 6.05a of the HRSA 99-1 form to include language referencing additional add-ons to the cap.

To the extent that it is reasonable and feasible, HRSA adheres to Centers for Medicare & Medicaid Services (CMS) regulations to ease the burden for children's teaching hospitals participating in the CHGME Payment Program that must also comply with CMS regulations. Specifically, per 66 FR 12940 (March 1, 2001) and 66 FR 37980 (July 20, 2001) the CHGME Payment Program follows the regulations provided at 42 CFR 413.86(f), (g), (h), and (i), which are now reflected in 42 CFR 413.79, regarding the application of the FTE resident caps as described in Section 1886(h) of the Social Security Act.

The CHGME Payment Program application forms have been revised to accommodate the final rule with comment period issued by CMS on December 27, 2021 (86 FR 73416). CMS issued the final rule to implement policies based on legislative changes relative to Medicare GME for teaching hospitals provided by Sections 126, 127, and 131 of the Consolidated Appropriations Act (CAA), 2021 (Pub. L. 116-260).

The final rule implements Sections 126, 127, and 131 of the CAA affecting Medicare direct GME and indirect medical education (IME) payments to teaching hospitals. Section 126(a) of the CAA amended section 1886(h) of the Social Security Act by adding a new section 1886(h)(9) of the Social Security Act requiring the distribution of additional residency positions to qualifying hospitals. Section 127 of the CAA amended section 1886(h)(4)(H)(iv) of the Social Security Act to specify that in the case of a hospital not located in a rural area that established or establishes a medical residency training program (or rural track) in a rural area, the hospital, and each such hospital located in a rural area that participates in such a training, is allowed to receive an adjustment to its FTE resident limit. Section 131 of the CAA also amended section 1886(h)(4)(H)(i) of the Social Security Act to provide an opportunity for hospitals that meet certain criteria and that have very small FTE resident caps to replace those caps if the Secretary determines the hospital begins training residents in a new program beginning on or after enactment (December 27, 2020) and before 5 years after enactment (December 26, 2025).

HRSA proposes to revise lines 4.05a, 5.05a, and 6.05a of the HRSA 99-1 form, which currently provide: “Addition (to the cap) for the unweighted resident FTE count for allopathic and osteopathic programs due to § 5503 of ACA.” The revised language in lines 4.05a, 5.05a, and 6.05a of the HRSA 99-1 form would provide: “Addition (to the cap) for the unweighted FTE resident count for allopathic and osteopathic programs due to § 5503 of ACA, § 126, § 127, and/or § 131 of the CAA.”

3. CHGME Payment Program Application HRSA 99-5 form: Remove items on the initial/reconciliation application form HRSA 99-5 form checklist.

HRSA proposes to remove “(1) a computer disk containing completed HRSA forms; and (2) a copy of the hospital's completed application package”. A computer disk of the completed HRSA application forms and a copy of the completed application package are no longer needed following the CHGME Payment Program application's integration into HRSA's Electronic Handbooks. The application forms and supporting documentation are currently provided electronically via the Electronic Handbooks Tasks and Reports functions.

4. Revisions to the existing FTE resident assessment exhibits for use by both the CHGME Payment Program and THCGME Program:

• Exhibit F—CHGME Fiscal Intermediary Introductory Request Letter to Hospital: This letter introduces the fiscal intermediary to the hospital and teaching health center and is a formal request to the hospital and teaching health center for documentation to support FTE residents claimed on the hospital's and teaching health center's application. HRSA proposes revising the title and content of the letter to provide clarity, reduce errors, and add language inclusive of teaching health centers. The revised title will be Fiscal Intermediary Introductory Request Letter to Teaching Provider.

• Exhibit N—Points for Future CHGME Auditors: This form facilitates continuity of communication from one fiscal intermediary to the next and helps HRSA and fiscal intermediaries track and follow up any issues with each hospital in a timely manner. HRSA proposes revising the title and content to include an area for points from prior years and to add language inclusive of teaching health centers. The revised title will be Points for Future Audits.

• Exhibit S—Final Medicare Administrative Contractor (MAC) Letter/“Top Memorandum”: This letter is sent from the fiscal intermediary to the MAC of each children's hospital and any teaching health center affiliated hospital following completion of the audit. This letter is to notify the MAC of the completion of the resident FTE assessment for each respective children's hospital or teaching health center affiliated hospital and to provide a summary report of the audit findings to be incorporated into the Medicare cost report, if applicable. HRSA has proposed revising the title and content to include the notification to the MAC of the identification of an overlap and the release of FTE resident(s) by the children's hospital or a teaching health center affiliated hospital to resolve an overlap, if applicable. The revised title will be Final MAC Adjustment and Overlap Resolution Letter.

5. Addition of one FTE resident assessment exhibit for use by both the CHGME Payment Program and THCGME Program:

HRSA proposes to add Exhibit E—Fiscal Intermediary Introductory Request Letter to MAC which would request hospital information prior to the commencement of the audit. This is a document that the fiscal intermediaries currently use internally and include in their own working papers. HRSA proposes to have this document included as part of the FTE resident assessment report submitted by the fiscal intermediaries to HRSA.

• This letter introduces the fiscal intermediary to the MAC and is a formal request to the MAC for documentation to support FTE residents claimed on the children's hospital's application and the teaching health center's affiliated hospital Medicare Cost Report.

6. Deletion of one FTE resident assessment exhibit previously used by the CHGME Payment Program.

HRSA proposes to discontinue the use of the FTE Resident Assessment Cover Letter, which is no longer needed to share information from the fiscal intermediary. The Conversation Record exhibit currently provides the same information.

• This letter includes a brief description of the audit that was performed and for which years, as well as a list of the documents included for review by the CHGME Payment Program.

Need and Proposed Use of the Information: Information collected will be used during the CHGME Payment Program initial application and the reconciliation process for both the CHGME Payment Program and THCGME Program to determine the amount of graduate medical education payments to be distributed to participating children's hospitals and teaching health centers. The CHGME Payment Program initial application forms and the FTE resident assessment forms for both the CHGME Payment Program and THCGME Program will also be used to determine CHGME Payment Program and THCGME Program eligibility and compliance with the programs' requirements.

Likely Respondents: The CHGME Payment Program applicants, CHGME Payment Program participants, and fiscal intermediaries auditing data submitted by the participating children's hospitals and teaching health centers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. The CHGME participating children's hospitals report their FTE residents using forms and exhibits approved by OMB (#0915-0247). The THCGME participating teaching health centers report their FTE residents using forms, tools and exhibits approved by OMB (#0915-0342 and #0915-0367). The FTE resident assessment forms and exhibits currently approved for use by the CHGME Payment Program under OMB clearance #0915-0247 will be reviewed or completed by the fiscal intermediaries during the audit of the FTE residents reported by the teaching health centers participating in the THCGME Program. The FTE resident assessment forms and exhibits are submitted to HRSA for approval. The fiscal intermediaries currently reviewing or completing the forms and exhibits to perform the audit of the 60 children's hospitals will utilize the forms and exhibits during the audit of 60 teaching health centers. The increased number of responses from the fiscal intermediaries related to the additional 60 THCGME audits performed results in an increase of approximately 2,000 burden hours.

Total Estimated Annualized Burden Hours
Form name | Number of respondents | Number of responses per respondent | Total responses | Average burden per response (in hours) | Total burden hours
Application Cover Letter (CHGME Initial and Reconciliation) | 60 | 2 | 120 | 0.33 | 39.6
HRSA 99 Form (CHGME Initial and Reconciliation) | 60 | 2 | 120 | 0.33 | 39.6
HRSA 99-1 Form (CHGME Initial) | 60 | 1 | 60 | 26.50 | 1,590.0
HRSA 99-1 Form (CHGME Reconciliation) | 60 | 1 | 60 | 6.50 | 390.0
HRSA 99-1 (Supplemental) (CHGME FTE Resident Assessment Only) | 30 | 2 | 60 | 3.67 | 220.2
HRSA 99-2 Form (CHGME Initial) | 60 | 1 | 60 | 11.33 | 679.8
HRSA 99-2 Form (CHGME Reconciliation) | 60 | 1 | 60 | 3.67 | 220.2
HRSA 99-4 Form (CHGME Reconciliation) | 60 | 1 | 60 | 12.50 | 750.0
HRSA 99-5 Form (Initial and Reconciliation) | 60 | 2 | 120 | 0.33 | 39.6
CFO Form Letter (CHGME Initial and Reconciliation) | 60 | 2 | 120 | 0.33 | 39.6
Exhibit 2 (CHGME Initial and Reconciliation) | 60 | 2 | 120 | 0.33 | 39.6
Exhibit 3 (CHGME Initial and Reconciliation) | 60 | 2 | 120 | 0.33 | 39.6
Exhibit 4 (CHGME Initial and Reconciliation) | 60 | 2 | 120 | 0.33 | 39.6
Conversation Record (CHGME FTE Resident Assessment Only) | 30 | 2 | 60 | 3.67 | 220.2
Exhibit C (CHGME and THCGME FTE Resident Assessment) | 30 | 4 | 120 | 3.67 | 440.4
Exhibit E (CHGME and THCGME FTE Resident Assessment) | 30 | 4 | 120 | 3.67 | 440.4
Exhibit F (CHGME and THCGME FTE Resident Assessment) | 30 | 4 | 120 | 3.67 | 440.4
Exhibit N (CHGME and THCGME FTE Resident Assessment) | 30 | 4 | 120 | 3.67 | 440.4
Exhibit O(1) (CHGME and THCGME FTE Resident Assessment) | 30 | 4 | 120 | 3.67 | 440.4
Exhibit O(2) (HRSA 99-1) (CHGME FTE Resident Assessment Only) | 30 | 2 | 60 | 26.5 | 1590.0
Exhibit P (Reconciliation Tool) (CHGME and THCGME FTE Resident Assessment) | 30 | 4 | 120 | 3.67 | 440.4
Exhibit P(2) (CHGME and THCGME FTE Resident Assessment) | 30 | 4 | 120 | 3.67 | 440.4
Exhibit S (CHGME and THCGME FTE Resident Assessment) | 30 | 4 | 120 | 3.67 | 440.4
Exhibit T (CHGME FTE Resident Assessment Only) | 30 | 2 | 60 | 3.67 | 220.2
Exhibit T(1) (CHGME FTE Resident Assessment Only) | 30 | 2 | 60 | 3.67 | 220.2
Exhibit 1 (CHGME FTE Resident Assessment Only) | 30 | 2 | 60 | 0.33 | 19.8
Exhibit 2 (CHGME FTE Resident Assessment Only) | 30 | 2 | 60 | 0.33 | 19.8
Exhibit 3 (CHGME FTE Resident Assessment Only) | 30 | 2 | 60 | 0.33 | 19.8
Exhibit 4 (CHGME FTE Resident Assessment Only) | 30 | 2 | 60 | 0.33 | 19.8
Total | 90 (60 children's hospitals and 30 fiscal intermediaries * |  | 180 (60 children's hospitals applications, 60 CHGME audits and 60 THCGME audits) ** |  | *** 9,980.40
* The total respondents are 90 because children's hospitals (60) and fiscal intermediaries (30) are completing the forms.
** The total responses are 180 because children's hospitals (60) and fiscal intermediaries for the CHGME audits (60) and the THCGME audits (60) are completing the forms.
*** The increase of 2,000 burden hours is due to the additional 60 THCGME audits.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-16898 Filed 8-5-22; 8:45 am]

BILLING CODE 4165-15-P